ENVIRONMENTAL PROTECTION AGENCY

40 CFR Part 52

[EPA-R03-OAR-2011-0419; FRL-9445-2]

Approval and Promulgation of Air Quality Implementation Plans; Pennsylvania; Determinations of Attainment of the 1997 Fine Particle Standard for the Harrisburg-Lebanon-Carlisle, Johnstown, Lancaster, York, and Reading Nonattainment Areas

AGENCY: Environmental Protection Agency (EPA).

ACTION: Proposed rule.

SUMMARY: EPA is proposing to determine that the Harrisburg-Lebanon-Carlisle (Harrisburg), Johnstown, Lancaster, York, and Reading fine particle (PM2.5) nonattainment areas (the Areas) in the Commonwealth of Pennsylvania have attained the 1997 annual PM2.5 National Ambient Air Quality Standard (NAAQS) by the applicable attainment date of April 5, 2010. These proposed determinations are based upon complete, quality assured, and certified ambient air monitoring data that show these Areas have monitored attainment of the 1997 annual PM2.5 NAAQS for the 2007-2009 monitoring period. These determinations are being taken in accordance with the requirements of the Clean Air Act (CAA).

In the Final Rules section of this Federal Register, EPA is making these determinations of attainment as a direct final rule without prior proposal because the Agency views these as noncontroversial actions and anticipates no adverse comments. A detailed rationale for the determinations is set forth in the direct final rule. If no adverse comments are received in response to these actions, no further activity is contemplated. If EPA receives adverse comments, the direct final rules will be withdrawn and all public comments received will be addressed in subsequent final rules based on these proposed rules. EPA will not institute a second comment period. Any parties interested in commenting on these actions should do so at this time.

DATES: Comments must be received in writing by August 29, 2011

ADDRESSES: Submit your comments, identified by Docket ID Number EPA-R03-OAR-2011-0419 by one of the following methods:

A. http://www.regulations.gov. Follow the on-line instructions for submitting comments.

B. E-mail: fernandez.cristina@epa.gov.

C. Mail: EPA-R03-OAR-2011-0419, Cristina Fernandez, Associate Director, Office of Air Quality Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0419. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103.

FOR FURTHER INFORMATION CONTACT: Elizabeth Gaige, (215) 814-5676, or by e-mail at gaige.elizabeth@epa.gov

SUPPLEMENTARY INFORMATION: For further information, please see the information provided in the direct final actions, with the same title, “Approval and Promulgation of Air Quality Implementation Plans; Pennsylvania; Determinations of Attainment of the 1997 Fine Particle Standard for the Harrisburg-Lebanon-Carlisle, Johnstown, Lancaster, York, and Reading Nonattainment Areas” located in the “Rules and Regulations” section of this Federal Register publication. Please note that if EPA receives adverse comment on an amendment, paragraph, or section of these rules and if that provision may be severed from the remainder of the rules, EPA may adopt as final those provisions of the rules that are not the subject of an adverse comment.

Dated: July 18, 2011.
W.C. Early,
Acting Regional Administrator, Region III.

[FR Doc. 2011-19142 Filed 7-28-11; 8:45 am]

BILLING CODE 6560-50-P